FEDERAL HOUSING FINANCE AGENCY

[No. 2012-N-XX]

Federal Home Loan Bank Members Selected for Community Support Review

AGENCY: Federal Housing Finance Agency.

ACTION: Notice.

SUMMARY: The Federal Housing Finance Agency (FHFA) is announcing the Federal Home Loan Bank (Bank) members it has selected for the 2010 seventh round review cycle under the FHFA's community support requirements regulation. This notice also prescribes the deadline by which Bank members selected for review must submit Community Support Statements to FHFA.

DATES: Bank members selected for the review cycle under the FHFA's community support requirements regulation must submit completed Community Support Statements to FHFA on or before November 5, 2012.

ADDRESSES: Bank members selected for the 2010 seventh round review cycle under the FHFA's community support requirements regulation must submit completed Community Support Statements to FHFA either by hard-copy mail at the Federal Housing Finance Agency, Ninth Floor, Housing Mission and Goals (DHMG), 400 Seventh Street SW., Washington, DC 20024, or by electronic mail at hmgcommunitysupportprogram@fhfa.gov.

FOR FURTHER INFORMATION CONTACT: Rona Richardson, Administrative Office Manager, Housing Mission and Goals (DHMG), Federal Housing Finance Agency, by telephone at 202-649-3224, by electronic mail at Rona.Richardson@FHFA.gov, or by hard-copy mail at the Federal Housing Finance Agency, Ninth Floor, 400 Seventh Street SW., Washington, DC 20024.

SUPPLEMENTARY INFORMATION:

I. Selection for Community Support Review

Section 10(g)(1) of the Federal Home Loan Bank Act (Bank Act) requires FHFA to promulgate regulations establishing standards of community investment or service Bank members must meet in order to maintain access to long-term advances. See 12 U.S.C. 1430(g)(1). The regulations promulgated by FHFA must take into account factors such as the Bank member's performance under the Community Reinvestment Act of 1977 (CRA), 12 U.S.C. 2901 et seq., and record of lending to first-time homebuyers. See 12 U.S.C. 1430(g)(2). Pursuant to section 10(g) of the Bank Act, FHFA has promulgated a community support requirements regulation that establishes standards a Bank member must meet in order to maintain access to long-term advances, and review criteria FHFA must apply in evaluating a member's community support performance. See 12 CFR part 1290. The regulation includes standards and criteria for the two statutory factors—CRA performance and record of lending to first-time homebuyers. 12 CFR 1290.3. Only members subject to the CRA must meet the CRA standard. 12 CFR 1290.3(b). All members, including those not subject to CRA, must meet the first-time homebuyer standard. 12 CFR 1290.3(c).

Under the rule, FHFA selects approximately one-eighth of the members in each Bank district for community support review each calendar quarter. 12 CFR 1290.2(a). FHFA will not review an institution's community support performance until it has been a Bank member for at least one year. Selection for review is not, nor should it be construed as, any indication of either the financial condition or the community support performance of the member.

Each Bank member selected for review must complete a Community Support Statement and submit it to FHFA by the November 5, 2012 deadline prescribed in this notice. 12 CFR 1290.2(b)(1)(ii) and (c). On or before October 5, 2012, each Bank will notify the members in its district that have been selected for the 2010 seventh round community support review cycle that they must complete and submit to FHFA by the deadline a Community Support Statement. 12 CFR 1290.2(b)(2)(i). The member's Bank will provide a blank Community Support Statement Form (OMB No. 2590-0005), which also is available on the FHFA's Web site: http://www.fhfa.gov/webfiles/2924/FHFAForm060.pdf. Upon request, the member's Bank also will provide assistance in completing the Community Support Statement.

FHFA has selected the following members for the 2010 seventh round community support review cycle:

Federal Home Loan Bank of Boston—District 1
First New England Federal Credit Union | East Hartford | Connecticut.
Bankers' Bank Northeast | Glastonbury | Connecticut.
Ledge Light Federal Credit Union | Groton | Connecticut.
Prudential Bank & Trust, FSB | Hartford | Connecticut.
Connex Credit Union | North Haven | Connecticut.
Dime Bank | Norwich | Connecticut.
Eastern Federal Bank | Norwich | Connecticut.
Workers Federal Credit Union | Stafford Springs | Connecticut.
Connecticut Community Bank, N.A | Westport | Connecticut.
360 Federal Credit Union | Windsor Locks | Connecticut.
Seaboard Federal Credit Union | Bucksport | Maine.
NorState Federal Credit Union | Madawaska | Maine.
Norway Savings Bank | Norway | Maine.
University Credit Union | Orono | Maine.
Sebasticook Valley Federal Credit Union | Pittsfield | Maine.
Infinity Federal Credit Union | Portland | Maine.
New Dimensions Federal Credit Union | Waterville | Maine.
Avon Co-operative Bank | Avon | Massachusetts.
Belmont Savings Bank | Belmont | Massachusetts.
Industrial Credit Union | Boston | Massachusetts.
Bridgewater Savings Bank | Bridgewater | Massachusetts.
Eastern Corporate Federal Credit Union | Burlington | Massachusetts.
Polish National Credit Union | Chicopee | Massachusetts.
Boston Firefighters Credit Union | Dorchester | Massachusetts.
Fall River Municipal Credit Union | Fall River | Massachusetts.
Holbrook Co-operative Bank | Holbrook | Massachusetts.
Lenox National Bank | Lenox | Massachusetts.
Enterprise Bank and Trust Company | Lowell | Massachusetts.
M/A-Com Federal Credit Union | Lowell | Massachusetts.
Luso Federal Credit Union | Ludlow | Massachusetts.
Brotherhood Credit Union | Lynn | Massachusetts.
Digital Federal Credit Union | Marlborough | Massachusetts.
Melrose Co-operative Bank | Melrose | Massachusetts.
The Village Bank | Newton | Massachusetts.
Northmark Bank | North Andover | Massachusetts.
Luso-American Credit Union | Peabody | Massachusetts.
Quincy Credit Union | Quincy | Massachusetts.
Bridgewater Credit Union | Raynham | Massachusetts.
Sharon Credit Union | Sharon | Massachusetts.
Winter Hill Bank, FSB | Somerville | Massachusetts.
The Braintree Co-Operative Bank | South Braintree | Massachusetts.
MassMutual Federal Credit Union | Springfield | Massachusetts.
Taunton Federal Credit Union | Taunton | Massachusetts.
RTN Federal Credit Union | Waltham | Massachusetts.
Webster First Federal Credit Union | Webster | Massachusetts.
Westport Federal Credit Union | Westport | Massachusetts.
Mutual Federal Savings Bank of Plymouth County | Whitman | Massachusetts.
Winchester Savings Bank | Winchester | Massachusetts.
AllCom Credit Union | Worcester | Massachusetts.
Commerce Bank & Trust Company | Worcester | Massachusetts.
Bellwether Community Credit Union | Manchester | New Hampshire.
Members First Credit Union of New Hampshire | Manchester | New Hampshire.
Pawtucket Credit Union | Pawtucket | Rhode Island.
Bank of America Rhode Island, N.A | Providence | Rhode Island.
Centreville Savings Bank | West Warwick | Rhode Island.
Community National Bank | Derby | Vermont.
New England Federal Credit Union | Williston | Vermont.
Federal Home Loan Bank of New York—District 2
Affinity Federal Credit Union | Bedminster | New Jersey.
Liberty Bell Bank | Cherry Hill | New Jersey.
Grand Bank, National Association | Hamilton | New Jersey.
Enterprise National Bank New Jersey | Kenilworth | New Jersey.
Central Jersey Bank, National Association | Long Branch | New Jersey.
Hudson City Savings Bank | Paramus | New Jersey.
Harvest Community Bank | Pennsville | New Jersey.
Roselle Savings Bank | Roselle | New Jersey.
Bank of Akron | Akron | New York.
Capital Bank & Trust Company | Albany | New York.
Marathon National Bank of New York | Astoria | New York.
Seneca Federal Savings & Loan Association | Baldwinsville | New York.
Bethpage Federal Credit Union | Bethpage | New York.
Putnam County Savings Bank | Brewster | New York.
First American International Bank | Brooklyn | New York.
Carthage Federal Savings & Loan Association | Carthage | New York.
Community Bank, National Association | Dewitt | New York.
Lake Shore Savings Bank | Dunkirk | New York.
American Community Bank | Glen Cove | New York.
Alternatives Federal Credit Union | Ithaca | New York.
CFCU Community Credit Union | Ithaca | New York.
Bank Leumi USA | New York | New York.
Interaudi Bank | New York | New York.
Metropolitan National Bank | New York | New York.
Progressive Credit Union | New York | New York.
Shinhan Bank America | New York | New York.
Gotham Bank of New York | New York City | New York.
Hudson Heritage Federal Credit Union | Newburgh | New York.
Oceanside Christopher Federal Credit Union | Oceanside | New York.
The North Country Savings Bank | Ogdensburg | New York.
Alliance Bank, National Association | Oneida | New York.
Hudson Valley Federal Credit Union | Poughkeepsie | New York.
Ridgewood Savings Bank | Ridgewood | New York.
Reliant Community Credit Union | Sodus | New York.
Hamptons State Bank | Southampton | New York.
Empower Federal Credit Union | Syracuse | New York.
Geddes Federal Savings & Loan Association | Syracuse | New York.
Northern Federal Credit Union | Watertown | New York.
Hudson Valley Bank, National Association | Yonkers | New York.
Bank of St. Croix, Inc. | Christiansted | Virgin Islands.
HSBC Bank USA, National Association | McLean | Virginia.
Federal Home Loan Bank of Pittsburgh—District 3
AIG Federal Savings Bank | Wilmington | Delaware.
People First Federal Credit Union | Allentown | Pennsylvania.
Meridian Bank | Berwyn | Pennsylvania.
Embassy Bank For The Lehigh Valley | Bethlehem | Pennsylvania.
Bucks County Bank | Doylestown | Pennsylvania.
The Fidelity Deposit and Discount Bank | Dunmore | Pennsylvania.
Lafayette Ambassador Bank | Easton | Pennsylvania.
First Resource Bank | Exton | Pennsylvania.
Huntingdon Savings Bank, PASA | Huntingdon | Pennsylvania.
Huntingdon Valley Bank | Huntingdon Valley | Pennsylvania.
Jonestown Bank and Trust Company | Jonestown | Pennsylvania.
Commercial Bank and Trust of Pennsylvania | Latrobe | Pennsylvania.
Susquehanna Bank | Lititz | Pennsylvania.
The National Bank of Malvern | Malvern | Pennsylvania.
Gateway Bank of Pennsylvania | McMurray | Pennsylvania.
Members 1st Federal Credit Union | Mechanicsburg | Pennsylvania.
The First National Bank of Mercersburg | Mercersburg | Pennsylvania.
Swineford National Bank | Middleburg | Pennsylvania.
Milton Savings Bank | Milton | Pennsylvania.
Royal Bank America | Narberth | Pennsylvania.
First National Bank & Trust Company of Newtown | Newtown | Pennsylvania.
East River Bank | Philadelphia | Pennsylvania.
Port Richmond Savings | Philadelphia | Pennsylvania.
Ukrainian Selfreliance Federal Credit Union | Philadelphia | Pennsylvania.
United Savings Bank | Philadelphia | Pennsylvania.
Fidelity Bank, PaSB | Pittsburgh | Pennsylvania.
Quaint Oak Bank | Southampton | Pennsylvania.
Citadel Federal Credit Union | Thorndale | Pennsylvania.
TruMark Financial Credit Union | Trevose | Pennsylvania.
Penn Liberty Bank | Wayne | Pennsylvania.
Merck, Sharp & Dohme Federal Credit Union | West Point | Pennsylvania.
Affinity Bank of Pennsylvania | Wyomissing | Pennsylvania.
STAR USA Federal Credit Union | Charleston | West Virginia.
The United Federal Credit Union | Morgantown | West Virginia.
One Community Credit Union | Parkersburg | West Virginia.
Jefferson Security Bank | Shepherdstown | West Virginia.
West Virginia Federal Credit Union | South Charles | West Virginia.
Federal Home Loan Bank of Atlanta—District 4
First National Bank of Central Alabama | Aliceville | Alabama.
Red Mountain Bank | Birmingham | Alabama.
Secure First Credit Union | Birmingham | Alabama.
SevisFirst Bank | Birmingham | Alabama.
SouthPoint Bank | Birmingham | Alabama.
Premier Bank of the South | Cullman | Alabama.
Farmers Exchange Bank | Louisville | Alabama.
First Metro Bank | Muscle Shoals | Alabama.
Hometown Bank of Alabama | Oneonta | Alabama.
Farmers and Merchants Bank | Piedmont | Alabama.
First Bank of The South | Rainsville | Alabama.
West Alabama Bank & Trust | Reform | Alabama.
Bank Independent | Sheffield | Alabama.
First Southern State Bank | Stevenson | Alabama.
State Bank and Trust | Winfield | Alabama.
EuroBank | Boca Raton | Florida.
Paradise Bank | Boca Raton | Florida.
First America Bank | Bradenton | Florida.
Sunrise Bank | Cocoa Beach | Florida.
Biscayne Bank | Coconut Grove | Florida.
Nature Coast Bank | Crystal River | Florida.
Community Bank of Broward | Dania Beach | Florida.
Mainstreet Community Bank of Florida | Deland | Florida.
Englewood Bank | Englewood | Florida.
First Community Bank of Southwest Florida | Fort Myers | Florida.
Reliance Bank, FSB | Fort Myers | Florida.
Beach Community Bank | Fort Walton Beach | Florida.
The Oculina Bank | Fort Pierce | Florida.
American Enterprise Bank of Florida | Jacksonville | Florida.
Jacksonville Firemen's Credit Union | Jacksonville | Florida.
Keys Federal Credit Union | Key West | Florida.
Achieva Credit Union | Largo | Florida.
City County Credit Union of Fort Lauderdale | Margate | Florida.
Lafayette State Bank | Mayo | Florida.
Florida Bus Bank | Melbourne | Florida.
BAC Florida Bank | Miami | Florida.
Executive National Bank | Miami | Florida.
Great Florida Bank | Miami | Florida.
U.S. Century Bank | Miami | Florida.
Alarion Bank | Ocala | Florida.
Tyndall Federal Credit Union | Panama City | Florida.
Sunshine State Federal Savings & Loan Association | Plant City | Florida.
Freedom Bank of America | St. Petersburg | Florida.
Pilot Bank | Tampa | Florida.
Tampa Bay Federal Credit Union | Tampa | Florida.
Patriot Bank | Trinity | Florida.
First Choice Credit Union | West Palm Beach | Florida.
Flagler Bank | West Palm Beach | Florida.
CenterState Bank of Florida, National Association | Winter Haven | Florida.
Atlanta Business Bank | Atlanta | Georgia.
First National Bank of Decatur County | Bainbridge | Georgia.
Hamilton State Bank | Braselton | Georgia.
Hometown Community Bank | Braselton | Georgia.
Atlantic National Bank | Brunswick | Georgia.
Flint River National Bank | Camilla | Georgia.
First National Bank of Polk County | Cedartown | Georgia.
Southern Bank and Trust | Clarkesville | Georgia.
Mountain Valley Community Bank | Cleveland | Georgia.
First Madison Bank & Trust | Colbert | Georgia.
PeoplesSouth Bank | Colquitt | Georgia.
Synovus Bank | Columbus | Georgia.
Southeastern Bank | Darien | Georgia.
Farmers State Bank | Dublin | Georgia.
Heritage Bank | Jonesboro | Georgia.
Legacy State Bank | Loganville | Georgia.
Highland Commercial Bank | Marietta | Georgia.
George D. Warthen Bank | Sandersville | Georgia.
Waycross Bank & Trust | Waycross | Georgia.
PlantersFirst | Cordele | Georgia.
Aberdeen Proving Ground | Aberdeen | Maryland.
The Harbor Bank of Maryland | Baltimore | Maryland.
Educational Systems Employees Federal Credit Union | Bladensburg | Maryland.
CNB | Centreville | Maryland.
First Peoples Community Federal Credit Union | Cumberland | Maryland.
Freedom of Maryland Federal Credit Union | East-Aberdeen | Maryland.
Howard Bank | Ellicott City | Maryland.
Washington Telephone Federal Credit Union | Kensington | Maryland.
Congressional Bank | Potomac | Maryland.
Capital Bank, National Association | Rockville | Maryland.
Energy Federal Credit Union | Rockville | Maryland.
National Institute of Health Federal Credit Union | Rockville | Maryland.
Farmers and Merchants Bank | Upperco | Maryland.
The Farmers Bank of Willards | Willards | Maryland.
Bank of Commerce | Charlotte | North Carolina.
Latino Community Credit Union | Durham | North Carolina.
Four Oaks Bank & Trust Company | Four Oaks | North Carolina.
Nantahala Bank & Trust Company | Franklin | North Carolina.
Alliance Bank Trust Company | Gastonia | North Carolina.
Premier Federal Credit Union | Greensboro | North Carolina.
Parkway Bank | Lenoir | North Carolina.
Bank of Carolinas | Mocksville | North Carolina.
North State Bank | Raleigh | North Carolina.
Roanoke Rapids Savings Bank, SSB | Roanoke Rapids | North Carolina.
Providence Bank | Rocky Mount | North Carolina.
Jackson Savings Bank, SSB | Sylva | North Carolina.
Tarboro Savings Bank, SSB | Tarboro | North Carolina.
Security Federal Bank | Aiken | South Carolina.
First Citizens Bank and Trust Company, Inc | Columbia | South Carolina.
South Carolina Community Bank | Columbia | South Carolina.
Dedicated Community Bank | Darlington | South Carolina.
Independence National Bank | Greenville | South Carolina.
Palmetto State Bank | Hampton | South Carolina.
Heritage Community Bank | Hartsville | South Carolina.
CoastalStates Bank | Hilton Head | South Carolina.
Tidelands Bank | Mount Pleasant | South Carolina.
Palmetto Heritage Bank & Trust | Pawleys Island | South Carolina.
Highlands Union Bank | Abingdon | Virginia.
Burke & Herbert Bank & Trust Company | Alexandria | Virginia.
Common Wealth One Federal Credit Union | Alexandria | Virginia.
Hew Federal Credit Union | Alexandria | Virginia.
The First National Bank of Altavista | Altavista | Virginia.
Arlington Virginia Federal Credit Union | Arlington | Virginia.
Bank of Clarke County | Berryville | Virginia.
Sonabank, National Association | Charlottesville | Virginia.
URW Community Federal Credit Union | Danville | Virginia.
Bank of Floyd | Floyd | Virginia.
Trupoint Bank | Grundy | Virginia.
MainStreet Bank | Herndon | Virginia.
The First Bank and Trust Company | Lebanon | Virginia.
Central Virginia Federal Credit Union | Lynchburg | Virginia.
The Bank of Marion | Marion | Virginia.
River Community Bank, N.A | Martinsville | Virginia.
Virginia Company Bank | Newport News | Virginia.
Northern Star Credit Union, Inc | Portsmouth | Virginia.
WashingtonFirst Bank | Reston | Virginia.
HomeTown Bank | Roanoke | Virginia.
Member One Federal Credit Union | Roanoke | Virginia.
Essex Bank | Tappahannock | Virginia.
Bank @LANTEC | Virginia Beach | Virginia.
The Fauquier Bank | Warrenton | Virginia.
Dupont Community Credit Union | Waynesboro | Virginia.
Federal Home Loan Bank of Cincinnati—District 5
Auburn Banking Company | Auburn | Kentucky.
Heritage Bank | Burlington | Kentucky.
United Citizens Bank of Southern Kentucky | Columbia | Kentucky.
Elkton Bank & Trust Company | Elkton | Kentucky.
First Federal Savings Bank of Frankfort | Frankfort | Kentucky.
Kentucky Employees Credit Union | Frankfort | Kentucky.
Commercial Bank of Grayson | Grayson | Kentucky.
The First National Bank of Grayson | Grayson | Kentucky.
1st Trust Bank, Inc | Hazard | Kentucky.
Hyden Citizens Bank | Hyden | Kentucky.
Citizens Guaranty Bank | Irvine | Kentucky.
Citizens Bank & Trust Company | Jackson | Kentucky.
Lewisburg Banking Company | Lewisburg | Kentucky.
Kue Federal Credit Union | Lexington | Kentucky.
University of Kentucky Federal Credit Union | Lexington | Kentucky.
First National Bank & Trust | London | Kentucky.
Kemba Louisville Credit Union | Louisville | Kentucky.
Louchem Federal Credit Union | Louisville | Kentucky.
Republic Bank & Trust Company | Louisville | Kentucky.
River City Bank | Louisville | Kentucky.
Stock Yards Bank & Trust Company | Louisville | Kentucky.
Citizens Bank | Morehead | Kentucky.
Kentucky Bank | Paris | Kentucky.
PBK Bank, Inc | Richmond | Kentucky.
Citizens Union Bank of Shelbyville | Shelbyville | Kentucky.
United Bank & Trust Company | Versailles | Kentucky.
Bank of The Mountains, Inc | West Liberty | Kentucky.
Alliance Banking Company | Winchester | Kentucky.
Winchester Federal Bank | Winchester | Kentucky.
North Akron Savings Bank | Akron | Ohio.
Ohio University Credit Union | Athens | Ohio.
Baltic State Bank | Baltic | Ohio.
Bartlett Farmers Bank | Bartlett | Ohio.
Best Reward Credit Union | Brook Park | Ohio.
Cinco Family Financial Center Credit Union | Cincinnati | Ohio.
Foundation Bank | Cincinnati | Ohio.
New Horizons Credit Union, Inc | Cincinnati | Ohio.
The Cincinnatus Savings & Loan Company | Cincinnati | Ohio.
KeyBank, National Association | Cleveland | Ohio.
Columbus Metro Federal Credit Union | Columbus | Ohio.
MidState Educators Credit Union | Columbus | Ohio.
Western Credit Union, Inc. | Columbus | Ohio.
The Union Bank Company | Columbus Grove | Ohio.
Emerald Bank | Dublin | Ohio.
Powerco Credit Union | Gahanna | Ohio.
First Service Federal Credit Union | Groveport | Ohio.
Hardin Community Federal Credit Union | Kenton | Ohio.
Day Air Credit Union | Kettering | Ohio.
The Marblehead Bank | Marblehead | Ohio.
Marion Community Credit Union | Marion | Ohio.
Lake National Bank | Mentor | Ohio.
River Valley Credit Union | Miamisburg | Ohio.
CES Credit Union, Inc | Mount Vernon | Ohio.
Miami University Community Federal Credit Union | Oxford | Ohio.
Desco Federal Credit Union | Portsmouth | Ohio.
Glass City Federal Credit Union | Toledo | Ohio.
First Place Bank | Warren | Ohio.
Seven Seventeen Credit Union | Warren | Ohio.
The First National Bank of Wellston | Wellston | Ohio.
Twin Valley Bank | West Alexandria | Ohio.
Woodsfield Savings Bank | Woodsfield | Ohio.
Alcoa Tennessee Federal Credit Union | Alcoa | Tennessee.
FSG Bank, National Association | Chattanooga | Tennessee.
Southeast Financial Credit Union | Franklin | Tennessee.
Sumner Bank & Trust | Gallatin | Tennessee.
Heritage Community Bank | Greeneville | Tennessee.
American Security Bank & Trust Company | Hendersonville | Tennessee.
Community Bank of the Cumberlands | Jamestown | Tennessee.
American Trust Bank of East Tennessee | Knoxville | Tennessee.
Knoxville TVA Employees Credit Union | Knoxville | Tennessee.
UT Federal Credit Union | Knoxville | Tennessee.
Citizens Bank of Lafayette | Lafayette | Tennessee.
Peoples Bank of the South | LaFollette | Tennessee.
First National Bank | Lenoir City | Tennessee.
First Commerce Bank | Lewisburg | Tennessee.
Peoples Bank & Trust Company | Manchester | Tennessee.
Security Federal Savings Bank | McMinnville | Tennessee.
McKenzie Banking Company | McKenzie | Tennessee.
Homeland Community Bank | McMinnville | Tennessee.
Financial, FSB | Memphis | Tennessee.
Landmark Community Bank | Memphis | Tennessee.
Community National Bank of the Lakeway Area | Morristown | Tennessee.
Bank of Fayette County | Moscow | Tennessee.
Civic Bank & Trust | Nashville | Tennessee.
InsBank | Nashville | Tennessee.
Nashville Bank and Trust Company | Nashville | Tennessee.
Bank of Ripley | Ripley | Tennessee.
Hardin County Bank | Savannah | Tennessee.
Peoples State Bank of Commerce | Trenton | Tennessee.
Ascend Federal Credit Union | Tullahoma | Tennessee.
First State Bank | Union City | Tennessee.
Cheyenne State Bank | Cheyenne | Wyoming.
Federal Home Loan Bank of Indianapolis—District 6
Bloomfield Savings Bank | Bloomfield | Indiana.
Members Choice Federal Credit Union | Bloomington | Indiana.
Community State Bank | Brook | Indiana.
Hendricks County Bank & Trust Company | Brownsburg | Indiana.
State Bank Burnettsville | Burnettsville | Indiana.
First Farmers Bank & Trust Company | Converse | Indiana.
Bank of Indiana, National Association | Dana | Indiana.
Evansville Federal Credit Union | Evansville | Indiana.
Pinnacle Credit Union | Fort Wayne | Indiana.
Professional Federal Credit Union | Fort Wayne | Indiana.
STAR Financial Bank | Fort Wayne | Indiana.
Springs Valley Bank & Trust Company | French Lick | Indiana.
The Garrett State Bank | Garrett | Indiana.
Eli Lilly Federal Credit Union | Indianapolis | Indiana.
First Internet Bank of Indiana | Indianapolis | Indiana.
Farmers State Bank of Mentone | Mentone | Indiana.
Citizens Bank | Mooresville | Indiana.
Tri-County Bank & Trust Company | Roachdale | Indiana.
Advance Financial Federal Credit Union | Schererville | Indiana.
Teachers Credit Union | South Bend | Indiana.
Home National Bank of Thorntown | Thorntown | Indiana.
Merchants Bank & Trust Company | West Harrison | Indiana.
Centier Bank | Whiting | Indiana.
University of Michigan Credit Union | Ann Arbor | Michigan.
Cornerstone Community Financial Federal Credit Union | Auburn Hills | Michigan.
Genisys Credit Union | Auburn Hills | Michigan.
FinancialEdge Community Credit Union | Bay City | Michigan.
The Blissfield State Bank | Blissfield | Michigan.
Byron Bank | Byron Center | Michigan.
CSB Bank | Capac | Michigan.
Exchange State Bank | Carsonville | Michigan.
Central Macomb Community Credit Union | Clinton Towns | Michigan.
Southern Michigan Bank & Trust | Coldwater | Michigan.
First National Bank of Crystal Falls | Crystal Falls | Michigan.
Upper Peninsula State Bank | Escanaba | Michigan.
State Bank Savings of Frankfort | Frankfort | Michigan.
West Michigan Bank & Trust Company | Frankfort | Michigan.
First Community Bank of Harbor Springs | Harbor Springs | Michigan.
Peninsula Bank | Ishpeming | Michigan.
G.W. Jones Exchange Bank | Marcellus | Michigan.
Chemical Bank | Midland | Michigan.
Isabella Bank | Mount Pleasant | Michigan.
Chief Pontiac Federal Credit Union | Pontiac | Michigan.
E & A Credit Union | Port Huron | Michigan.
Catholic Federal Credit Union | Saginaw | Michigan.
The Shelby State Bank | Shelby | Michigan.
Choiceone Bank | Sparta | Michigan.
Berrien Teachers Credit Union | St. Joseph | Michigan.
Traverse City State Bank | Traverse City | Michigan.
Bestsource Credit Union | Waterford | Michigan.
Federal Home Loan Bank of Chicago—District 7
Algonquin State Bank, National Association | Algonquin | Illinois.
State Bank of the Lakes | Antioch | Illinois.
Meadows Credit Union | Arlington Heights | Illinois.
The First National Bank of Ava | Ava | Illinois.
Barrington Bank & Trust Company, National Association | Barrington | Illinois.
1st MidAmerica Credit Union | Bethalto | Illinois.
1st Equity Bank Northwest | Buffalo Grove | Illinois.
Illiana Financial Credit Union | Calumet City | Illinois.
MidAmerica National Bank | Canton | Illinois.
Busey Bank | Champaign | Illinois.
University of Illinois Employees Credit Union | Champaign | Illinois.
American Union Savings and Loan Association | Chicago | Illinois.
Builders Bank | Chicago | Illinois.
Cole Taylor Bank | Chicago | Illinois.
Devon Bank | Chicago | Illinois.
BMO Harris Bank, National Association | Chicago | Illinois.
International Bank of Chicago | Chicago | Illinois.
Metropolitan Capital Bank | Chicago | Illinois.
Park Federal Savings Bank | Chicago | Illinois.
Cissna Park State Bank | Cissna Park | Illinois.
The Clay City Banking Company | Clay City | Illinois.
State Bank of Davis | Davis | Illinois.
The First National Bank of Dwight | Dwight | Illinois.
National Bank of Earlville | Earlville | Illinois.
Suburban Bank & Trust Company | Elmhurst | Illinois.
Flora Savings Bank | Flora | Illinois.
Franklin Bank | Franklin | Illinois.
State Bank | Freeport | Illinois.
National Bank | Hillsboro | Illinois.
Farmers State Bank of Hoffman | Hoffman | Illinois.
Community Trust Bank | Irvington | Illinois.
First Midwest Bank | Itasca | Illinois.
First Community Bank of Joliet | Joliet | Illinois.
NuMark Credit Union | Joliet | Illinois.
Kenney Bank & Trust | Kenney | Illinois.
Baytree National Bank and Trust Company | Lake Forest | Illinois.
MidCountry Bank | Metropolis | Illinois.
Midwest Bank of Western Illinois | Monmouth | Illinois.
Peoples National Bank, National Association | Mt. Vernon | Illinois.
Hawthorne Credit Union | Naperville | Illinois.
Plaza Bank, Norridge, Illinois | Norridge | Illinois.
First Federal Savings Bank | Ottawa | Illinois.
Citizens Equity First Credit Union | Peoria | Illinois.
First Bankers Trust Company, National Association | Quincy | Illinois.
The First National Bank of Raymond | Raymond | Illinois.
Rockford Bank and Trust Company | Rockford | Illinois.
American Eagle Bank | South Elgin | Illinois.
Providence Bank, L.L.C | South Holland | Illinois.
American Heartland Bank and Trust | Sugar Grove | Illinois.
First Neighbor Bank, National Association | Toledo | Illinois.
North Adams State Bank | Ursa | Illinois.
The First Trust & Savings Bank of Watseka, IL | Watseka | Illinois.
Iroquois Federal Savings & Loan Association | Watseka | Illinois.
White Hall Bank | White Hall | Illinois.
The Business Bank | Appleton | Wisconsin.
Fox Communities Credit Union | Appleton | Wisconsin.
Unity Bank | Augusta | Wisconsin.
The American National Bank of Beaver Dam | Beaver Dam | Wisconsin.
The First National Bank and Trust Company | Beloit | Wisconsin.
The Farmers & Merchant Bank | Berlin | Wisconsin.
Fox River State Bank | Burlington | Wisconsin.
Citizens State Bank | Cadott | Wisconsin.
Denmark State Bank | Denmark | Wisconsin.
Security Financial Bank | Durand | Wisconsin.
Union Bank & Trust Company | Evansville | Wisconsin.
Hometown Bank | Fond du Lac | Wisconsin.
Hartford Savings Bank | Hartford | Wisconsin.
Farmers and Merchants Bank of Kendall | Kendall | Wisconsin.
Altra Federal Credit Union | La Crosse | Wisconsin.
Citizens State Bank of La Crosse | La Crosse | Wisconsin.
State Bank Financial | La Crosse | Wisconsin.
Livingston State Bank | Livingston | Wisconsin.
Capitol Bank | Madison | Wisconsin.
Madison Credit Union | Madison | Wisconsin.
The Park Bank | Madison | Wisconsin.
Premier Community Bank | Marion | Wisconsin.
Forward Financial Bank, SSB | Marshfield | Wisconsin.
Bay View Federal Savings & Loan Association | Milwaukee | Wisconsin.
North Milwaukee State Bank | Milwaukee | Wisconsin.
Farmers Savings Bank | Mineral Point | Wisconsin.
Alliance Bank | Mondovi | Wisconsin.
The Necedah Bank | Necedah | Wisconsin.
Lakeview Credit Union | Neenah | Wisconsin.
Farmers Exchange Bank | Neshkoro | Wisconsin.
State Bank of Newburg | Newburg | Wisconsin.
Community State Bank | Norwalk | Wisconsin.
University of Wisconsin (UW) Oshkosh Credit Union | Oshkosh | Wisconsin.
Northwoods Community Credit Union | Park Falls | Wisconsin.
Foundations Bank | Pewaukee | Wisconsin.
Timberwood Bank | Tomah | Wisconsin.
Community State Bank | Union Grove | Wisconsin.
Citizens First Bank | Viroqua | Wisconsin.
Waumandee State Bank | Waumandee | Wisconsin.
Integrity First Bank | Wausau | Wisconsin.
Federal Home Loan Bank of Des Moines—District 8
The National Bank | Moline | Illinois.
River Valley Credit Union | Ames | Iowa.
First Whitney Bank and Trust | Atlantic | Iowa.
Quad City Bank and Trust Company | Bettendorf | Iowa.
Success Bank | Bloomfield | Iowa.
Blue Grass Savings Bank | Blue Grass | Iowa.
First Federal Credit Union | Cedar Rapids | Iowa.
Exchange State Bank | Collins | Iowa.
State Savings Bank | Creston | Iowa.
East Dubuque Savings Bank | Dubuque | Iowa.
Community Bank | Dunlap | Iowa.
Security Savings Bank | Eagle Grove | Iowa.
Central State Bank | Elkader | Iowa.
Employees Credit Union | Estherville | Iowa.
Iowa State Bank and Trust Company of Fairfield, IA | Fairfield | Iowa.
Glenwood State Bank | Glenwood | Iowa.
First National Bank | Greenfield | Iowa.
Home State Bank | Jefferson | Iowa.
Security Savings Bank | Larchwood | Iowa.
Malvern Trust & Savings Bank | Malvern | Iowa.
Farmers & Merchants Savings Bank | Manchester | Iowa.
Members First Community Credit Union | Marshalltown | Iowa.
Pinnacle Bank | Marshalltown | Iowa.
First Citizens National Bank | Mason City | Iowa.
Northwoods State Bank | Mason City | Iowa.
First State Bank | Nashua | Iowa.
Raccoon Valley Bank | Perry | Iowa.
Pilot Grove Savings Bank | Pilot Grove | Iowa.
Frontier Bank | Rock Rapids | Iowa.
Citizens State Bank | Sheldon | Iowa.
The First National Bank of Farragut | Shenandoah | Iowa.
Pinnacle Bank Sioux City | Sioux City | Iowa.
Community State Bank | Spencer | Iowa.
MetaBank | Storm Lake | Iowa.
Security Trust & Savings Bank | Storm Lake | Iowa.
Walcott Trust and Savings Bank | Walcott | Iowa.
First Bank | West Des Moines | Iowa.
The First National Bank of West Union | West Union | Iowa.
Security Bank Minnesota | Albert Lea | Minnesota.
Avon State Bank | Avon | Minnesota.
Mid Minnesota Federal Credit Union | Baxter | Minnesota.
KleinBank | Big Lake | Minnesota.
Bridgewater Bank | Bloomington | Minnesota.
United Bankers' Bank | Bloomington | Minnesota.
First National Bank of Buhl | Buhl | Minnesota.
First Security Bank | Byron | Minnesota.
Maple Bank | Champlin | Minnesota.
Community Bank Corporation | Chaska | Minnesota.
Members Cooperative Credit Union | Cloquet | Minnesota.
Choice Financial Savings Bank | Comfrey | Minnesota.
First Advantage Bank | Coon Rapids | Minnesota.
Duluth Teachers Credit Union | Duluth | Minnesota.
American Investors Bank and Mortgage | Eden Prairie | Minnesota.
Crown Bank | Edina | Minnesota.
Tradition Capital Bank | Edina | Minnesota.
American State Bank of Erskine | Erskine | Minnesota.
The Miners National Bank of Eveleth | Eveleth | Minnesota.
Spire Federal Credit Union | Falcon Heights | Minnesota.
Falcon National Bank | Foley | Minnesota.
Financial Security Bank | Kerkhoven | Minnesota.
Lakeview Bank | Lakeville | Minnesota.
Lowry State Bank | Lowry | Minnesota.
Premier Bank | Maplewood | Minnesota.
Gateway Bank | Mendota Heights | Minnesota.
Equity Bank | Minnetonka | Minnesota.
Signature Bank | Minnetonka | Minnesota.
Ormsby State Bank | Ormsby | Minnesota.
Peoples State Bank of Plainview | Plainview | Minnesota.
First Alliance Credit Union | Rochester | Minnesota.
First Security Bank—Sleepy Eye | Sleepy Eye | Minnesota.
BankCherokee | St. Paul | Minnesota.
Saint Paul Federal Credit Union | St. Paul | Minnesota.
The First National Bank in Wadena | Wadena | Minnesota.
Wadena State Bank | Wadena | Minnesota.
Plaza Park State Bank | Waite Park | Minnesota.
Arsenal Credit Union | Arnold | Missouri.
Bank of Bloomsdale | Bloomsdale | Missouri.
Branson Bank | Branson | Missouri.
Focus Bank | Charleston | Missouri.
First Community Credit Union | Chesterfield | Missouri.
Providence Bank | Columbia | Missouri.
The Corder Bank | Corder | Missouri.
Peoples Bank | Cuba | Missouri.
Reliance Bank | Des Peres | Missouri.
Century Bank of the Ozarks | Gainesville | Missouri.
Tri-County Trust Company | Glasgow | Missouri.
The Hamilton Bank | Hamilton | Missouri.
The Bank of Houston | Houston | Missouri.
First Financial Credit Union | Jefferson City | Missouri.
H&R Block Bank | Kansas City | Missouri.
American Trust Bank | Kirksville | Missouri.
Town & Country Bank of Missouri | La Grange | Missouri.
Lone Summit Bank | Lake Lotawana | Missouri.
B & L Bank | Lexington | Missouri.
Mid America Bank | Linn | Missouri.
The Bank of Macks Creek | Macks Creek | Missouri.
United Credit Union | Mexico | Missouri.
Bank of Minden | Mindenmines | Missouri.
Bank of Cairo and Moberly | Moberly | Missouri.
RCSBank | New London | Missouri.
West Community Credit Union | O'Fallon | Missouri.
Saint Clair County State Bank | Osceola | Missouri.
Platte Valley Bank of Missouri | Platte City | Missouri.
Wells Bank of Platte City | Platte City | Missouri.
Sterling Bank | Poplar Bluff | Missouri.
Great Southern Bank | Reeds Spring | Missouri.
Citizens Bank of Newburg | Rolla | Missouri.
Central Bank of Missouri | Sedalia | Missouri.
Mid-Missouri Bank | Springfield | Missouri.
OakStar Bank, National Association | Springfield | Missouri.
Health Care Family Credit Union | St. Louis | Missouri.
St. Louis Community Credit Union | St. Louis | Missouri.
1st Advantage Bank | St. Peters | Missouri.
St. Louis Bank | Town and Country | Missouri.
First Security Bank | Union Star | Missouri.
Putnam County State Bank | Unionville | Missouri.
First Financial Bank | Aneta | North Dakota.
The Union Bank | Beulah | North Dakota.
Capital Credit Union | Bismarck | North Dakota.
American Federal Bank | Fargo | North Dakota.
Gate City Bank | Fargo | North Dakota.
State Bank & Trust | Fargo | North Dakota.
VISIONBank | Fargo | North Dakota.
Bank of Glen Ullin | Glen Ullin | North Dakota.
Dakota Community Bank & Trust, National Association | Hebron | North Dakota.
United Community Bank of North Dakota | Leeds | North Dakota.
State Bank of Alcester | Alcester | South Dakota.
One American Bank | Centerville | South Dakota.
Farmers State Bank | Faith | South Dakota.
Farmers State Bank | Iroquois | South Dakota.
Valley Exchange Bank | Lennox | South Dakota.
First Bank & Trust of Milbank | Milbank | South Dakota.
Black Hills Federal Credit Union | Rapid City | South Dakota.
Highmark Federal Credit Union | Rapid City | South Dakota.
Heartland State Bank | Redfield | South Dakota.
First Bank & Trust | Sioux Falls | South Dakota.
Minnwest Bank Sioux Falls | Sioux Falls | South Dakota.
Wells Fargo Bank, N.A | Sioux Falls | South Dakota.
Federal Home Loan Bank of Dallas—District 9
Chambers Bank | Danville | Arkansas.
Signature Bank of Arkansas | Fayetteville | Arkansas.
First Service Bank | Greenbrier | Arkansas.
Farmers Bank | Hamburg | Arkansas.
Arkansas Federal Credit Union | Jacksonville | Arkansas.
Heritage Bank, National Association | Jonesboro | Arkansas.
First Delta Bank | Marked Tree | Arkansas.
McGehee Bank | McGehee | Arkansas.
Home Bank of Arkansas | Portland | Arkansas.
Warren Bank & Trust Company | Warren | Arkansas.
Campus Federal Credit Union | Baton Rouge | Louisiana.
Farmers-Merchants Bank &Trust Company | Breaux Bridge | Louisiana.
Colfax Banking Company | Colfax | Louisiana.
Caldwell Bank & Trust | Columbia | Louisiana.
The Cottonport Bank | Cottonport | Louisiana.
First National Bank in DeRidder | DeRidder | Louisiana.
Tri-Parish Bank | Eunice | Louisiana.
Southern Heritage Bank | Jonesville | Louisiana.
The Vernon Bank | Leesville | Louisiana.
Marion State Bank | Marion | Louisiana.
Metairie Bank and Trust Company | Metairie | Louisiana.
Gulf Coast Bank & Trust Company | New Orleans | Louisiana.
First Federal Savings & Loan Association | Aberdeen | Mississippi.
Copiah Bank, N.A | Hazlehurst | Mississippi.
Planters Bank & Trust Company | Indianola | Mississippi.
First American National Bank | Luka | Mississippi.
Hope Community Credit Union | Jackson | Mississippi.
Holmes County Bank & Trust Company | Lexington | Mississippi.
Navigator Credit Union | Pascagoula | Mississippi.
First National Bank of Picayune | Picayune | Mississippi.
Beal Bank USA | Las Vegas | Nevada.
Western Bank | Alamogordo | New Mexico.
Western Bank | Artesia | New Mexico.
Western Commerce Bank | Carlsbad | New Mexico.
The Citizens Bank | Farmington | New Mexico.
Los Alamos National Bank | Los Alamos | New Mexico.
First State Bank | Abilene | Texas.
First National Bank of Anderson | Anderson | Texas.
Libertad Bank, SSB | Austin | Texas.
United Heritage Credit Union | Austin | Texas.
University Federal Credit Union | Austin | Texas.
Velocity Credit Union | Austin | Texas.
Citizens National Bank At Brownwood | Brownwood | Texas.
First State Bank | Chico | Texas.
Coleman County State Bank | Coleman | Texas.
Columbus State Bank | Columbus | Texas.
Preston State Bank | Dallas | Texas.
One World Bank | Dallas | Texas.
Veritex Community Bank, National Association | Dallas | Texas.
Your Federal Credit Union | Dallas | Texas.
State Bank of De Kalb | De Kalb | Texas.
North Texas Bank, National Association | Decatur | Texas.
Greater South Texas Bank | Falfurrias | Texas.
Sage Capital Bank, National Association | Gonzales | Texas.
HBank Texas | Grapevine | Texas.
State National Bank of Groom | Groom | Texas.
Hamlin National Bank | Hamlin | Texas.
Haskell National Bank | Haskell | Texas.
First Financial Bank | Hereford | Texas.
Bank of Houston | Houston | Texas.
Capital Bank | Houston | Texas.
Golden Bank, National Association | Houston | Texas.
Green Bank, National Association | Houston | Texas.
Members Choice Credit Union | Houston | Texas.
MemberSource Credit Union | Houston | Texas.
Patriot Bank | Houston | Texas.
Post Oak Bank, National Association | Houston | Texas.
Preferred Bank, FSB | Houston | Texas.
Tradition Bank | Houston | Texas.
Huntington State Bank | Huntington | Texas.
Tejas Bank | Iraan | Texas.
Sovereign Bank, National Association | Irving | Texas.
The Jacksboro National Bank | Jacksboro | Texas.
Texas National Bank of Jacksonville | Jacksonville | Texas.
Texas Dow Employees Credit Union | Lake Jackson | Texas.
Laredo Federal Credit Union | Laredo | Texas.
AIMBank | Littlefield | Texas.
Arrowhead Bank | Llano | Texas.
Llano National Bank | Llano | Texas.
Peoples Bank | Lorenzo | Texas.
Marfa National Bank | Marfa | Texas.
Bank of Commerce | McLean | Texas.
Incommons Bank, National Association | Mexia | Texas.
The Liberty National Bank in Paris | Paris | Texas.
Security State Bank | Pearsall | Texas.
LegacyTexas Bank | Plano | Texas.
Share Plus Federal Bank | Plano | Texas.
First Financial Bank, National Association | San Angelo | Texas.
USAA Federal Savings Bank | San Antonio | Texas.
The City National Bank of San Saba | San Saba | Texas.
First Commercial Bank, National Association | Seguin | Texas.
Peoples State Bank | Shepherd | Texas.
First State Bank | Spearman | Texas.
First NB of Throckmorton | Throckmorton | Texas.
Texstar National Bank | Universal City | Texas.
Uvalde National Bank | Uvalde | Texas.
Texas Star Bank | Van Alstyne | Texas.
Fidelity Bank of Texas | Waco | Texas.
Wallis State Bank | Wallis | Texas.
Fidelity Bank | Wichita Falls | Texas.
Federal Home Loan Bank of Topeka—District 10
Pine River Valley Bank | Bayfield | Colorado.
Steele Street Bank & Trust | Denver | Colorado.
Bank of Estes Park | Estes Park | Colorado.
Bank of Colorado | Fort Collins | Colorado.
Cache Bank and Trust | Greeley | Colorado.
First American State Bank | Greenwood Village | Colorado.
Gunnison Bank & Trust Company | Gunnison | Colorado.
Front Range Bank | Lakewood | Colorado.
The First National Bank of Las Animas | Las Animas | Colorado.
Colorado Credit Union | Littleton | Colorado.
Advantage Bank | Loveland | Colorado.
Integrity Bank & Trust | Monument | Colorado.
The Pueblo Bank and Trust Company | Pueblo | Colorado.
Equitable Savings & Loan Association | Sterling | Colorado.
Legacy Bank | Wiley | Colorado.
American Bank of Baxter Springs | Baxter Springs | Kansas.
Great American Bank | De Soto | Kansas.
The Farmers State Bank | Fairview | Kansas.
Patriots Bank | Garnett | Kansas.
First National Bank | Goodland | Kansas.
Bank of Hays | Hays | Kansas.
Morrill & Janes Bank & Trust | Hiawatha | Kansas.
Bank of Holyrood | Holyrood | Kansas.
First State Bank | Kansas City | Kansas.
Lyons Federal Bank | Lyons | Kansas.
United Bank & Trust | Marysville | Kansas.
The Farmers Bank | Osborne | Kansas.
Bank VI | Salina | Kansas.
Sunflower Bank, National Association | Salina | Kansas.
Community National Bank | Seneca | Kansas.
Community Bank of Wichita, Inc | Wichita | Kansas.
Mid American Credit Union | Wichita | Kansas.
West Plains Bank | Ainsworth | Nebraska.
Security State Bank | Ansley | Nebraska.
Archer Cooperative Credit Union Archer | Archer | Nebraska.
State Bank of Bartley | Bartley | Nebraska.
Pathway Bank | Cairo | Nebraska.
Cedar Rapids State Bank | Cedar Rapids | Nebraska.
Columbus United Federal Credit Union | Columbus | Nebraska.
Five Points Bank | Grand Island | Nebraska.
Banner County Bank | Harrisburg | Nebraska.
The State Bank of Hildreth | Hildreth | Nebraska.
First State Bank | Hordville | Nebraska.
First State Bank Nebraska | Lincoln | Nebraska.
First Bank and Trust Company | Minden | Nebraska.
Platte Valley Bank | North Bend | Nebraska.
American National Bank | Omaha | Nebraska.
Four Points Federal Credit Union | Omaha | Nebraska.
State Bank of Riverdale | Riverdale | Nebraska.
The Jones National Bank & Trust Company | Seward | Nebraska.
Iowa-Nebraska State Bank | South Sioux City | Nebraska.
Countryside Bank | Unadilla | Nebraska.
First National Bank of Wahoo | Wahoo | Nebraska.
Community Bank | Alva | Oklahoma.
American National Bank | Ardmore | Oklahoma.
Citizens Bank & Trust Company | Ardmore | Oklahoma.
The First Security Bank | Beaver | Oklahoma.
First Bethany Bank & Trust | Bethany | Oklahoma.
The First State Bank | Boise City | Oklahoma.
Patriot Bank | Broken Arrow | Oklahoma.
The Farmers Bank | Carnegie | Oklahoma.
The First National Bank of Coweta | Coweta | Oklahoma.
Bank of Cushing | Cushing | Oklahoma.
F&M Bank | Edmond | Oklahoma.
The First National Bank of Fletcher | Fletcher | Oklahoma.
Bank of Grove | Grove | Oklahoma.
The Idabel National Bank | Idabel | Oklahoma.
The Eastman National Bank | Newkirk | Oklahoma.
Coppermark Bank | Oklahoma City | Oklahoma.
Frontier State Bank | Oklahoma City | Oklahoma.
Municipal Employees Credit Union of Oklahoma | Oklahoma City | Oklahoma.
Oklahoma Employees Credit Union | Oklahoma City | Oklahoma.
Quail Creek Bank, National Association | Oklahoma City | Oklahoma.
Valliance Bank | Oklahoma City | Oklahoma.
Century Bank of Oklahoma | Pryor | Oklahoma.
McClain Bank | Purcell | Oklahoma.
Oklahoma Heritage Bank | Roff | Oklahoma.
Bank of the Wichitas | Snyder | Oklahoma.
BOKF, NA | Tulsa | Oklahoma.
Freedom Bank of Oklahoma | Tulsa | Oklahoma.
Oklahoma Central Credit Union | Tulsa | Oklahoma.
SpiritBank, National Association | Tulsa | Oklahoma.
Tulsa National Bank | Tulsa | Oklahoma.
First State Bank | Waynoka | Oklahoma.
Federal Home Loan Bank of San Francisco—District 11
Mission Bank (AZ) | Kingman | Arizona.
Arizona State Credit Union | Phoenix | Arizona.
First Corporate Credit Union | Phoenix | Arizona.
RepublicBankAz, NA | Phoenix | Arizona.
The Biltmore Bank of Arizona | Phoenix | Arizona.
Altier Credit Union | Tempe | Arizona.
TruWest Credit Union | Tempe | Arizona.
National Bank of Arizona | Tucson | Arizona.
Foothill Federal Credit Union | Arcadia | California.
Uniti Bank | Buena Park | California.
First California Bank | Camarillo | California.
Matadors Community Credit Union | Chatsworth | California.
Premier America Credit Union | Chatsworth | California.
Tri Counties Bank | Chico | California.
American Continental Bank | City of Industry | California.
United Pacific Bank | City of Industry | California.
Coronado First Bank | Coronado | California.
Commercial Bank of California | Costa Mesa | California.
First Northern Bank of Dixon | Dixon | California.
Rabobank, National Association | El Centro | California.
Pan Pacific Bank | Fremont | California.
United Security Bank | Fresno | California.
The Community Credit Union of Southern Humboldt | Garberville | California.
California Credit Union | Glendale | California.
NuVision Federal Credit Union | Huntington Beach | California.
Regents Bank, National Association | La Jolla | California.
Operating Engineers Local Union #3 Federal Credit Union | Livermore | California.
Banamex USA | Los Angeles | California.
California United Bank | Los Angeles | California.
Grandpoint Bank | Los Angeles | California.
Hanmi Bank | Los Angeles | California.
Manufacturers Bank | Los Angeles | California.
Pacific Resource Credit Union | Los Angeles | California.
ProAmerica Bank | Los Angeles | California.
1st Capital Bank | Monterey | California.
Independence Bank | Newport Beach | California.
Citizens Business Bank | Ontario | California.
Kaiser Federal Bank | Pasadena | California.
LA Financial Federal Credit Union | Pasadena | California.
Pasadena Service Federal Credit Union | Pasadena | California.
Bank of the Sierra | Porterville | California.
Plumas Bank | Quincy | California.
Bourns Employees Federal Credit Union | Riverside | California.
First National Bank of Southern California | Riverside | California.
Premier Service Bank | Riverside | California.
Security Bank of California | Riverside | California.
American River Bank | Sacramento | California.
The Merchants National Bank of Sacramento | Sacramento | California.
Home Bank of California | San Diego | California.
Mission Federal Credit Union | San Diego | California.
North Island Financial Credit Union | San Diego | California.
America California Bank | San Francisco | California.
Mission National Bank | San Francisco | California.
New Resource Bank | San Francisco | California.
Oceanic Bank | San Francisco | California.
Mega Bank | San Gabriel | California.
Founders Community Bank | San Luis Obispo | California.
Mission Community Bank | San Luis Obispo | California.
First American Trust, FSB | Santa Ana | California.
National 1st Credit Union | Santa Clara | California.
First Community Bank | Santa Rosa | California.
Redwood Credit Union | Santa Rosa | California.
Mother Lode Bank | Sonora | California.
Priority One Credit Union | South Pasadena | California.
Liberty Bank | South San Francisco | California.
Travis Credit Union | Vacaville | California.
Community Business Bank | West Sacramento | California.
Credit Union of Southern California | Whittier | California.
Friendly Hills Bank | Whittier | California.
I.L.W.U. Credit Union | Wilmington | California.
Sutter Community Bank | Yuba City | California.
Kirkwood Bank of Nevada | Las Vegas | Nevada.
Service1st Bank of Nevada | Las Vegas | Nevada.
Heritage Bank of Nevada | Reno | Nevada.
Federal Home Loan Bank of Seattle—District 12
Alaska Pacific Bank | Juneau | Alaska.
First Hawaiian Bank | Honolulu | Hawaii.
Hawaii National Bank | Honolulu | Hawaii.
Idaho Banking Company | Boise | Idaho.
Farmers National Bank | Buhl | Idaho.
Bank of Idaho | Idaho Falls | Idaho.
The Bank of Baker | Baker | Montana.
Flathead Bank of Bigfork | Bigfork | Montana.
Yellowstone Bank | Laurel | Montana.
Montana First Credit Union | Missoula | Montana.
Valley Bank of Ronan | Ronan | Montana.
1st Bank | Sidney | Montana.
Central Williamette Community Credit Union | Albany | Oregon.
WAUNA Federal Credit Union | Clatskanie | Oregon.
Citizens Bank | Corvallis | Oregon.
Century Bank | Eugene | Oregon.
Summit Bank | Eugene | Oregon.
Oregon Pacific Bank | Florence | Oregon.
Advantis Credit Union | Portland | Oregon.
OnPoint Community Credit Union | Portland | Oregon.
State Bank of Southern Utah | Cedar City | Utah.
Lewiston State Bank | Lewiston | Utah.
Weber State Credit Union | Ogden | Utah.
Rock Canyon Bank | Orem | Utah.
American Bank of Commerce | Provo | Utah.
Central Bank | Provo | Utah.
Security Service Federal Credit Union | Salt Lake City | Utah.
CIT Bank | Salt Lake City | Utah.
First Utah Bank | Salt Lake City | Utah.
Liberty Bank | Salt Lake City | Utah.
Hometown National Bank | Longview | Washington.
Washington Business Bank | Olympia | Washington.
Salal Credit Union | Seattle | Washington.
Numerica Credit Union | Spokane | Washington.
Washington Trust Bank | Spokane | Washington.
Columbia State Bank | Tacoma | Washington.
Harborstone Credit Union | Tacoma | Washington.
Boeing Employees' Credit Union | Tukwila | Washington.
First Northern Bank of Wyoming | Buffalo | Wyoming.
Warren Federal Credit Union | Cheyenne | Wyoming.
Western Vista Federal Credit Union | Cheyenne | Wyoming.
State Bank | Green River | Wyoming.
Bank of Jackson Hole | Jackson | Wyoming.
Central Bank & Trust | Lander | Wyoming.

II. Public Comments

To encourage the submission of public comments on the community support performance of Bank members, on or before October 5, 2012, each Bank will notify its Advisory Council and nonprofit housing developers, community groups, and other interested parties in its district of the members selected for community support review in the 2010 seventh round review cycle. 12 CFR 1290.2(b)(2)(ii). In reviewing a member for community support compliance, FHFA will consider any public comments it has received concerning the member. 12 CFR 1290.2(d). To ensure consideration by FHFA, comments concerning the community support performance of members selected for the 2010 seventh round review cycle must be delivered to FHFA, either by hard-copy mail at the Federal Housing Finance Agency, Ninth Floor, Housing Mission and Goals (DHMG), 400 Seventh Street SW., Washington, DC 20024, or by electronic mail to hmgcommunitysupportprogram@fhfa.gov on or before the November 5, 2012 deadline for submission of Community Support Statements.

Dated: September 14, 2012.
Edward J. DeMarco,
Acting Director, Federal Housing Finance Agency.

[FR Doc. 2012-23334 Filed 9-20-12; 8:45 am]

BILLING CODE 8070-01-P